DEPARTMENT OF EDUCATION

Privacy Act of 1974; System of Records—Principal Investigator/Application File and Associated Records

AGENCY: Institute of Education Sciences, Department of Education.

ACTION: Notice of a new system of records.

SUMMARY: In accordance with the Privacy Act of 1974, as amended (Privacy Act), the Department of Education (Department) publishes this notice of a new system of records entitled “Institute of Education Sciences Principal Investigator/Application File and Associated Records” (18-13-26). The Office of the Deputy Director for Science at the Department's Institute of Education Sciences (Institute) will establish and maintain this system of records.

The system of records will contain information on individuals who are principal investigators and who have requested grant support or received grant support, or both, from the Institute, either individually or through an academic institution or other organization.

The system of records notice will cover a database and paper files containing personally identifying information about these principal investigators, including their names, addresses, telephone numbers, titles, institutional or organizational affiliations, employment histories, professional experiences, academic credentials, current and pending support from other grant programs, research applications submitted to Institute competitions, and the peer reviews (summary statements) and peer review scores associated with their applications.

The Institute is building this database to assist Institute staff, who manage the peer review process, by systematically assembling and maintaining files that are necessary and appropriate to the scientific peer review of grant applications submitted to the Institute. The database will also enable applicants and principal investigators who have requested grant support from the Institute to electronically access the reviews and scores for their applications following the peer review of their applications for scientific merit. (An applicant may be an academic institution or other organization that employs a principal investigator and that is identified within the grant application as the applicant).

DATES: The Department seeks comment on the new system of records described in this notice, in accordance with the requirements of the Privacy Act. We must receive your comments on the proposed routine uses for the system of records referenced in this notice on or before November 13, 2012.

The Department filed a report describing the new system of records covered by this notice with the Chair of the Senate Committee on Homeland Security and Governmental Affairs, the Chair of the House Committee on Oversight and Government Reform, and the Administrator of the Office of Information and Regulatory Affairs, Office of Management and Budget (OMB) on October 09, 2012. This system of records will become effective at the later date of—(1) the expiration of the 40-day period for OMB review on November 19, 2012 unless OMB waives 10 days of the 40-day review period for compelling reasons shown by the Department, or (2) November 13, 2012, unless the system of records needs to be changed as a result of public comment or OMB review.

ADDRESSES: Address all comments about the proposed routine uses to Dr. Anne Ricciuti, Deputy Director for Science, Institute of Education Sciences, U.S. Department of Education, 555 New Jersey Avenue NW., room 602F, Washington, DC 20208-0001. Telephone: (202) 219-2247. If you prefer to send comments through the Internet, use the following address: comments@ed.gov.

You must include the term “Principal Investigator/Application File and Associated Records” in the subject line of the electronic message.

During and after the comment period, you may inspect all comments about this notice at the U.S. Department of Education in room 602Q, 555 New Jersey Avenue NW., Washington, DC, between the hours of 8:00 a.m. and 4:30 p.m., Eastern time, Monday through Friday of each week except Federal holidays.

Assistance to Individuals With Disabilities in Reviewing the Rulemaking Record

On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Anne Ricciuti. Telephone: (202) 219-2247.

If you use a telecommunications device for the deaf (TDD) or a text telephone (TTY), call the Federal Relay Service (FRS) at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to any record about an individual that is maintained in a system of records from which personally identifying information is retrieved by a unique identifier associated with each individual, such as a name or Social Security Number (SSN). The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are included to permit an evaluation of the probable effect of the proposal on the privacy rights of individuals.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Dated: October 9, 2012.
John Q. Easton,
Director, Institute of Education Sciences.

For the reasons discussed in the preamble, the Director of the Institute of Education Sciences (Institute), U.S. Department of Education (Department), publishes a notice of a new system of records to read as follows:

SYSTEM NUMBER:

18-13-26

SYSTEM NAME:

Institute of Education Sciences Principal Investigator/Application File and Associated Records.

SECURITY CLASSIFICATION:

None.

SYSTEM LOCATIONS:

(1) Office of the Deputy Director for Science, Institute of Education Sciences, U.S. Department of Education, 555 New Jersey Avenue NW., room 606C, Washington, DC 20208-0001.

(2) The Institute's contractor, SRA International, Inc., through its Center for Peer Review and Science Management, Health and Civil Services Sector, 8490 Progress Drive, Suite 200, Frederick, MD 21701-4995.

(3) Contractor servers at Savvis—DC3, 45845 Nokes Boulevard, Sterling, VA 20166-6574.

CATEGORIES OF INDIVIDUALS COVERED BY THE SYSTEM:

This system contains records about individuals who are principal investigators and who have requested grant support, or received grant support, or both, from the Institute, either individually or through an academic institution or other organization.

CATEGORIES OF RECORDS IN THE SYSTEM:

The system of records covers a database and paper files containing personally identifying information about these principal investigators, including their names, addresses, telephone numbers, titles, institutional or organizational affiliations, employment histories, professional experiences, academic credentials, current and pending support from other grant programs, research applications submitted to Institute competitions and the peer reviews (summary statements) and peer review scores associated with their applications.

AUTHORITY FOR MAINTENANCE OF THE SYSTEM:

The Institute's programs for funding research are authorized under the Education Sciences Reform Act of 2002 (ESRA), 20 U.S.C. 9501 et seq.

PURPOSE(S):

The purpose of this system of records is to assist Institute staff, who manage the peer review process, by systematically assembling and maintaining files that are necessary and appropriate to the scientific peer review of grant applications submitted to the Institute. The electronic database that is a part of this system of records will also enable applicants and principal investigators who have requested grant support from the Institute to electronically access the reviews and scores for their applications following the peer review of their applications for scientific merit. (An applicant may be an academic institution or other organization that employs a principal investigator and that is identified within the grant application as the applicant.) Access to the information in the electronic database will be strictly controlled and granted on the basis of proper identity authentication credentials to include, at a minimum, a user ID and password.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement.

1. Program Purposes.

(a) Disclosure to Applicants that are Academic Institutions or Other Organizations that Employ Principal Investigators. Disclosure of information from the system may be provided to academic institutions or other organizations that employ principal investigators and that have applied for, or that have received grant support from, the Institute. Disclosure will permit them to access information about the review process and award decisions for the applications that they submitted.

(b) Disclosure to Peer Reviewers. Disclosure of information from the system may be provided to peer reviewers for their opinions and evaluations of principal investigators' applications as part of the Institute's scientific merit peer review process.

2. Contract Disclosure. When the Department contracts with an entity for the purposes of performing any function that requires disclosure of records in this system to employees of the contractor, the Department may disclose the records to those employees. Before entering into such a contract, the Department shall require the Contractor to maintain Privacy Act safeguards as required under 5 U.S.C. 522a(m) with respect to the records in the system.

3. Enforcement Disclosure. In the event that information in this system of records indicates, either on its face or in connection with other information, a violation or potential violation of any statute, regulation, or order of competent authority, the Department may disclose the relevant records to the appropriate agency, whether foreign, Federal, State, tribal, or local, charged with the responsibility of investigating or prosecuting that violation or charged with enforcing or implementing the statute, executive order, rule, regulation, or order issued pursuant thereto.

4. Litigation and Alternative Dispute Resolution (ADR) Disclosures.

(a) Introduction. In the event that one of the parties listed below is involved in litigation or ADR, or has an interest in litigation or ADR, the Department may disclose certain records to the parties described in paragraphs (b), (c) and (d) of this routine use under the conditions specified in those paragraphs:

(i) The Department, or any component of the Department; or

(ii) Any Department employee in his or her official capacity; or

(iii) Any Department employee in his or her individual capacity if the Department of Justice (DOJ) has been requested to, or has agreed to, provide or arrange for representation for the employee;

(iv) Any Department employee in his or her individual capacity where the Department has agreed to represent the employee; or

(v) The United States, where the Department determines that the litigation is likely to affect the Department or any of its components.

(b) Disclosure to the DOJ. If the Department determines that disclosure of certain records to the DOJ is relevant and necessary to litigation or ADR, the Department may disclose those records as a routine use to the DOJ.

(c) Adjudicative Disclosures. If the Department determines that disclosure of certain records to an adjudicative body before which the Department is authorized to appear, or to an individual or entity designated by the Department or otherwise empowered to resolve or mediate disputes, is relevant and necessary to the litigation or ADR, the Department may disclose those records as a routine use to the adjudicative body, individual, or entity.

(d) Parties, Counsel, Representatives, or Witnesses. If the Department determines that disclosure of certain records to a party, counsel, representative, or witness is relevant and necessary to the litigation or ADR, the Department may disclose those records as a routine use to the party, counsel, representative, or witness.

5. Freedom of Information Act (FOIA) and Privacy Act Advice Disclosure. The Department may disclose records to the DOJ or the Office of Management and Budget if the Department concludes that disclosure is desirable or necessary in determining whether particular records are required to be disclosed under the FOIA or the Privacy Act.

6. Disclosure to the DOJ. The Department may disclose records to the DOJ to the extent necessary for obtaining DOJ advice on any matter relevant to an audit, inspection, or other inquiry related to the programs covered by this system.

7. Congressional Member Disclosure. The Department may disclose an individual's records to a member of Congress in response to an inquiry from the member made at the written request of that individual. The member's right to the information is no greater than the right of the individual who requested it.

8. Disclosure in the Course of Responding to Breach of Data. The Department may disclose records from this system to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs that rely upon the compromised information (whether maintained by the Department or another agency or entity); and (c) the disclosure made to such agencies, entities, and persons is reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Various portions of the system are maintained electronically, in paper files, or both. The Department maintains records in this system both on paper and in compact disc, read-only-memory (CD-ROM), and the contractor (SRA International, Inc.) maintains data for this system on computers and in hard copy.

RETRIEVABILITY:

Paper and electronic records will be retrieved using principal investigators' names or grant application numbers.

SAFEGUARDS:

The Department's paper and CD-ROM records are stored in locked metal filing cabinets or in a secured room, with access limited to personnel whose duties require access. All physical access to the Department's sites is controlled and monitored by security personnel who check each individual entering the building for an employee or visitor badge.

The computer system employed by the contractor offers a high degree of resistance to tampering and circumvention. The system enforces assigned authorizations by controlling access based on the individual's role in the project. Each individual's access is determined by the system administrator in conjunction with the Institute and other administrative staff. These rights are re-assessed periodically by the application administrator.

The system has share-level and file-level security utilizing New Technology File System (NTFS), which is built into the Windows 2008 operating system. The system administrator grants or denies access to users or groups of users at the folder or file level. Several system groups are established within the Windows server to permit fine-grained control of user access to project folders. No other contractor users or groups of users will be given access to these folders or files.

The system's servers are located at the Savvis DC3 data center and are protected by Savvis' procedures governing physical access to the servers. Access to sensitive areas is controlled by means of key cards, ID badges, security guards, biometric hand scanners, man traps equipped with key cards, key-locked equipment cages, and continuous video surveillance.

RETENTION AND DISPOSAL:

Records are maintained and disposed of in accordance with the Department's Records Disposition Schedule for Discretionary Grant File Records and Related Records (ED 254A.1).

SYSTEM MANAGER AND ADDRESS:

Deputy Director for Science, Institute of Education Sciences, U.S. Department of Education, 555 New Jersey Avenue NW., room 600, Washington, DC 20208-0001.

NOTIFICATION PROCEDURE:

If you wish to determine whether a record exists regarding you in the system of records, contact the system manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

Information will be provided voluntarily by individuals who are principal investigators and who have requested and/or received grant support from the Institute either individually or through an academic institution or other organization.

EXEMPTIONS CLAIMED FOR THE SYSTEM:

None.

[FR Doc. 2012-25174 Filed 10-11-12; 8:45 am]

BILLING CODE 4000-01-P